ENVIRONMENTAL PROTECTION AGENCY

[FRL-7401-7]

Air Quality Criteria for Particulate Matter

AGENCY: Environmental Protection Agency.

ACTION: Notice of workshop.

SUMMARY: The U.S. Environmental Protection Agency's (EPA) National Center for Environmental Assessment, within the Agency's Office of Research and Development, is announcing a Workshop on GAM-Related Statistical Issues in Particulate Matter (PM) Epidemiology. The workshop is open to the public.

DATES: The workshop will begin on November 4, 2002, at 8:45 a.m. and will conclude on November 6, at 4 p.m.

ADDRESSES: The workshop will be held at the Sheraton Imperial Hotel, 4700 Emperor Boulevard, Durham, North Carolina 27703. Logistics for the workshop are being arranged by Science Applications International Corporation (SAIC), an EPA contractor. The public is invited to attend the workshop. Persons wanting to register for the GAM workshop may do so at the following Web site http://www.cvent.com. The event code is EPHVP19M8U.

FOR FURTHER INFORMATION CONTACT: For workshop information, registration, and logistics, contact Alina Martin, Science Applications International Corporation, 11251 Roger Bacon Drive, Reston, VA 20190; telephone: 703-318-4678; facsimile:703-736-0826; or e-mail at martinali@saic.com.

For technical information, contact Dr. Robert Elias, U.S. EPA, NCEA-RTP, B243-01, Research Triangle Park, NC 27711; telephone: 919-541-4167; facsimile: 919-541-1818; or e-mail: elias.robert@epa.gov.

SUPPLEMENTARY INFORMATION: The workshop, which is being organized in coordination with the Health Effects Institute (HEI), is being held to provide a forum (open to the public) for discussion of: (a) Newly identified issues related to the conduct of General Additive Model (GAM) analyses, using commercially available software packages (e.g., S-plus or SAS), in time-series studies of relationships between ambient air particulate matter (PM) and mortality/morbidity endpoints (e.g., daily deaths, hospital admissions); (b) progress made to date in the conduct of reanalyses of a group of GAM-related studies identified by EPA as being of high priority for policy considerations (see www.epa.gov/ncea/partmatt.htm for more information); and (c) additional considerations for future directions for new PM epidemiologic analyses. After the workshop, participating investigators will have the opportunity to modify preliminary reanalyses presented at the workshop to take into account the workshop discussions and to submit to EPA written “short communications” conveying key information on the reanalyses and their outcomes. Those short communications are to be peer-reviewed by an HEI-assembled panel of experts and then included in an HEI Report, to be made available in early 2003. The peer-reviewed reanalyses in the HEI Report will be considered by NCEA-RTP staff in preparing revised draft chapters bearing on PM epidemiology studies for inclusion in a Fourth External Review Draft of EPA's Air Quality Criteria Document for PM to be released next spring for public comment (60 days) and Clean Air Scientific Advisory Committee (CASAC) review at a public meeting in mid-summer 2003. The final version of the PM Criteria Document will ultimately provide key scientific bases for the now ongoing Congressionally mandated periodic review of the PM National Ambient Air Quality Standards (PM NAAQS).

A detailed agenda for the meeting will be made available via the above-listed Web site or contact person.

Dated: October 22, 2002.
Art Payne,
Acting Director, National Center for Environmental Assessment.

[FR Doc. 02-27491 Filed 10-28-02; 8:45 am]

BILLING CODE 6560-50-P